DEPARTMENT OF COMMERCE

National Oceanic and Atmospheric Administration

[Docket No.: 030602141-5302-31]

Financial Assistance To Administer NOAA's Educational Partnership Program (EPP) With Minority Serving Institutions (MSI), Graduate Sciences Program

AGENCY: National Oceanic and Atmospheric Administration (NOAA), Department of Commerce.

ACTION: Notice of criteria to administer the EPP/MSI Graduate Sciences Program; and notice of availability of funds and solicitation for proposals for these funds.

SUMMARY: The purpose of this document is to advise the public that NOAA's Educational Partnership Program is soliciting not-for-profit organizations to administer its EPP Graduate Sciences Program. The goal of the Graduate Sciences Program is to provide college graduates who have received at least a Bachelor's degree in mathematics, science, economics, law, and engineering, entry-level employment and hands-on research and work experience at NOAA. The program's objective is to increase the number of students who undertake course work and graduate with degrees in the targeted areas integral to NOAA's mission.

The goal of the NOAA EPP/MSI Graduate Sciences Program (GSP) is aimed primarily at increasing opportunities and available programs for students in NOAA related fields to pursue research and graduate level educational training in atmospheric, environmental, and oceanic sciences at Minority Serving Institutions (MSI) when possible. All students are competitively selected for positions in NOAA offices and facilities.

Participants must be U.S. citizens, have a Bachelor's degree in mathematics, science, law, or engineering, and have, and maintain, a minimum G.P.A. of 3.0 or higher prior to and for the duration of their training. Prior to acceptance into the program, students must be enrolled in an accredited graduate school and obtain a letter of recommendation by a school official. This two-year program provides for formal periods of work, study, and structured classroom training programs in meteorology, hydrology, cartography, oceanography, ecology, remote sensing technology, environmental science and planning, marine science, fisheries biology, computer science, and environmental law. GSP pays for tuition, books, lab fees, campus housing allowance, travel expenses, and salary during 16 weeks of NOAA work experience per year at a NOAA research facility. NOAA scientists are assigned as mentors to graduate scientists during the training period.

The progress of the students is monitored throughout the academic year and during the intermittent career work experiences. Under the program, graduate students are required to present their research at conferences, scientific meetings and workshops, education and science forums, etc. The program requires that students participate in an orientation program at NOAA Headquarters in Silver Spring, Maryland, at the beginning of their appointment.

DATES: Applications must be received by NOAA Educational Partnership Program (EPP) no later than 2 p.m. (eastern standard time), February 13, 2006.

ADDRESSES: Applications submitted in response to this announcement are strongly encouraged to submit through the Grants.gov Web site. Electronic access to the full funding opportunity announcement for this program is available via the Grants.gov Web site: http://www.grants.gov. The announcement will also be available at the NOAA EPP Web site http://epp.noaa.gov or by contacting the program official identified below. Applicants must comply with all requirements contained in the full funding opportunity announcement. Paper applications (a signed original and two copies) may also be submitted to the Educational Partnership Program at the following address: NOAA/EPP, 1315 East West Highway, Room 10703, Silver Spring, Maryland 20910. No facsimile applications will be accepted. Institutions are encouraged to submit Letters of Intent to NOAA/EPP within 30 days of this announcement to aid in planning the review processes.

Letters of Intent may be submitted via e-mail to Chantell.Haskins@noaa.gov. Information should include a general description of the program administration proposal.

FOR FURTHER INFORMATION CONTACT: Chantell Haskins, Program Manager at (301) 713-9437 ext. 125 or Chantell.Haskins@noaa.gov.

SUPPLEMENTARY INFORMATION:

Background

NOAA is committed to recruiting and retaining individuals from underrepresented communities as part of its workforce. The agency established EPP to provide financial assistance to train students in NOAA-related sciences and to conduct hands-on research related to the ongoing mission of the agency. Therefore, the agency established a program aimed at partnering with MSIs that train and graduate students in the areas of atmospheric, oceanic and environmental sciences, fisheries sciences, and management, and remote sensing technology. Since approximately 40% of minority students receive their undergraduate degrees at MSIs, direct collaboration with MSIs is an effective way to increase the number of students from under-represented communities trained and graduated in NOAA-related sciences.

With such a limited pool of potential minority employees trained in NOAA-related sciences, it is important that NOAA seek new ways to make students aware of the mission of the agency and to support activities that increase opportunities for students trained in NOAA-related sciences.

The National Oceanic and Atmospheric Administration (NOAA) Educational Partnership Program (EPP) with Minority Serving Institutions (MSIs) is a competitive program designed to develop and/or enhance the collaboration between NOAA and the MSI community to increase the number of students who pursue coursework and graduate with degrees in NOAA-related sciences. The program is designed to improve NOAA's outreach and recruitment efforts of under-represented individuals in the scientific mission-related occupational fields, i.e., fishery biology, environmental law, meteorology, cartography, oceanography, hydrology, computer science, ecology, environmental economics, and engineering. The program requires graduate student's participation in research projects that will promote in-depth knowledge and understanding of NOAA sciences in their academic institutions. For the purposes of this announcement, MSIs are defined as Historically Black Colleges and Universities, Hispanic Serving Institutions, Tribal Colleges and Universities, Alaska Native and Native Hawaiian Serving Institutions as defined by the Department of Education and the most recent list can be found on the NOAA EPP Web site at http://epp.noaa.gov.

Electronic Access

Applicants can access, download, and submit electronic grant applications, including the full funding opportunity announcement, for NOAA programs at the Grants.gov Web site: http://www.grants.gov. The announcement will also be available at the NOAA EPP Web site http://epp.noaa.gov or by contacting the program official identified above. The closing date will be the same as for paper submissions noted in this announcement. NOAA strongly recommends that you do not wait until the application deadline date to begin the application process through Grants.gov. If Internet access is unavailable, hard copies of proposals will also be accepted—a signed original and two copies—at time of submission. The project description (including relevant results from prior training programs) should not exceed 15 pages. Page limits are inclusive of figures, and other visual materials, but are exclusive of references, milestone charts, letters of collaboration from unfounded collaborators, letters of endorsement, and curriculum vitae which may not exceed 2 pages for each principal, program administrator/coordinator. This includes color or high-resolution graphics, unusually sized materials, or otherwise unusual materials submitted as part of the proposal. For color graphics, submit either color originals or color copies. Facsimile transmissions and electronic mail submission of full proposals will not be accepted.

Funding Availability

Subject to appropriations, this solicitation announces that funding at a maximum of $350,000 will be available for program administration of the Graduate Sciences Program over a two-year period. The proposal is limited to a total of $350,000 for a maximum of two years and one proposal will be funded. Up to 18% of $350,000 is allowed for administrative overhead and at least 82% of $350,000 is for student support. It is anticipated that the funding instrument will be a cooperative agreement since NOAA will be substantially involved in identifying NOAA facilities to place students during the two summer internships, and with collaboration, participation, or intervention in project performance.

Authorities: 15 U.S.C. 1540, 49 U.S.C. 44720, 33 U.S.C. 883d, 33 U.S.C. 1442, 16 U.S.C. 1854(e), 16 U.S.C. 661, 16 U.S.C. 753(a), 16 U.S.C. 1451 et seq., 16 U.S.C. 1431, 33 U.S.C. 883a and Executive Orders 12876, 12900, 13021, 13336, and 13339.

Catalog of Federal Domestic Assistance: 11.481—Educational Partnership Program with Minority Serving Institutions.

Eligibility: Proposals will only be accepted from non-profit organizations.

Cost Sharing Requirements: None.

Intergovernmental Review: Applications under this program are not subject to Executive Order 12372, “Intergovernmental Review of Federal Programs.”

Evaluation and Selection Procedures: Once an application is received by NOAA, an initial administrative review is conducted to determine compliance with requirements and completeness of the application. The initial administrative review will be based on:

1. Eligibility—Proposals will only be accepted and reviewed from not-for-profit organizations (as defined in Section IIIA of the full funding opportunity announcement);

2. Submission date—Proposals will only be accepted and reviewed if they are received in the NOAA EPP office by the designated deadline;

3. Project cost—Proposals will only be accepted and reviewed if the administrative overhead costs are no more than 18% of the total award.

Each application that meets the requirements and is complete will be evaluated and scored individually in accordance with the assigned weights of the evaluation criteria by an independent peer review panel. Each peer panel reviewer will score proposals on a scale of five to one, where scores represent respectively: Excellent (5), Very Good (4), Good (3), Fair (2), Poor (1).

Each peer review panel will be comprised of 3 to 5 individuals, having expertise in the program management of student fellowship, scholarship, or internship programs in the areas of science and technology. The individual peer review panelist scores shall be averaged for each application and presented to the Program Officer. No consensus advice will be given by the independent peer to the review panel. The Program Officer will neither vote nor score proposals as part of the independent peer review panel nor participate in discussion of the merits of the proposal. Those proposals receiving an average panel score of “Good,” “Fair,” or “Poor” will not be given further consideration, and applicants will be notified of non-selection. For the proposals rated by the panel as either “Excellent” or “Very Good,” the Program Officer will (a) rank the proposals by average panel ratings, and/or by applying the project selection factors listed below; (b) determine the total duration of funding for the selected proposal; and (c) determine the amount of funds available for the selected proposal subject to the availability of fiscal year funds. A recommendation for funding is then forwarded to the selecting official, the Director, NOAA Office of Education, for the final funding decision. In making the final selection, the Director will award to the highest scoring applicant unless the selected proposal is justified to be selected out of rank order based on the selection factors listed below. Investigators may be asked to modify objectives, work plans or budgets, and provide supplemental information required by the agency prior to the award. When a decision has been made (whether an award or declination), verbatim anonymous copies of reviews and summaries of review panel deliberations, if any, will be made available to the applicant upon applicant request. Declined applications will be held in the NOAA EPP for the required 3 years in accordance with the current retention requirements, and then destroyed.

Evaluation Criteria: Proposals will be evaluated on the basis of the following evaluation criteria at the indicated weights:

(1) Importance and/or relevance and applicability of proposed project to the program goals. This ascertains whether there is intrinsic value in the proposed work and/or relevance to NOAA, Federal, regional, state, or local activities.

(2) Technical/scientific merit: This assesses whether the approach is technically sound and/or innovative, if the methods are appropriate, and whether there are clear project goals and objectives.

(3) Overall qualifications of applicants: This ascertains whether the applicant possesses the necessary education, experience, training, facilities, and administrative resources to accomplish the project.

(4) Project costs: The Budget is evaluated to determine if it is realistic and commensurate with the project needs and time-frame.

(5) Outreach and education: NOAA assesses whether this project provides a focused and effective education and outreach strategy regarding NOAA's mission to protect the Nation's natural resources.

Selection Factors: The merit review ratings shall provide a rank order to the Selecting Official for final funding recommendation. A program officer may first make a recommendation to the Selecting Official applying the selection factors below. The Selecting Official shall award in the rank order unless the proposal is justified to be selected out of rank order based upon numbers 1, 4, 5 and 6 of the following factors:

1. Availability of funding.

2. Balance/distribution of funds:

a. Geographically

b. By type of institutions

c. By type of partners

d. By research areas

e. By project types

3. Whether this project duplicates other projects funded or considered for funding by NOAA or other federal agencies.

4. Program priorities and policy factors set forth in sections I.A. and B. and IV.B. of the Full Funding Opportunity.

5. Applicant's prior award performance.

6. Partnerships and/or Participation of targeted groups.

7. Adequacy of information necessary for NOAA to make a NEPA determination and draft necessary documentation before recommendations for funding are made to the Grants Officer.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for the denial of an application. In some cases if additional information is required after application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability

Funding for the program administration listed in this notice is contingent upon availability of Fiscal Year 2006 appropriations. Applicants are hereby given notice that funds have not yet been appropriated for the Graduate Sciences Program. In no event will NOAA or the Department of Commerce accept responsibility for proposal preparation costs if these programs fail to receive funding or are cancelled because of other agency priorities. Publication of this announcement does not oblige NOAA to award any specific project or to obligate any available funds. Recipients and sub-recipients are subject to all Federal laws and agency policies, regulations and procedures applicable to Federal financial assistance awards.

Paperwork Reduction Act

This notification involves collection-of-information requirements subject to the Paperwork Reduction Act. The use of Standard Forms 424, 424A, 424B, and SF-LLL and CD-346 has been approved by the Office of Management and Budget (OMB) under control numbers 0348-0043, 0348-0044, 0348-0040 and 0348-0046 and 0605-0001. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared, and none has been prepared. It has been determined that this notice does not contain policies with Federalism implications as that term is defined in Executive Order 13132.

Mark Brown,
Chief Financial Officer, NOAA Oceanic and Atmospheric Research.

[FR Doc. E5-7396 Filed 12-14-05; 8:45 am]

BILLING CODE 3510-KD-P